ENVIRONMENTAL PROTECTION AGENCY

[FRL-6934-7]

Gulf of Mexico Program—Management Committee Meeting

AGENCY: U.S. Environmental Protection Agency (US EPA).

ACTION: Notice of meeting.

SUMMARY: Under the Federal Advisory Act, Public Law 92463, EPA gives notice of a meeting of the Gulf of Mexico Program (GMP) Management Committee (MC).

DATES: The MC meeting will be held on Tuesday, February 13, 2001 from 1:00 to 5:00 p.m. and on Wednesday, February 14, 2001 from 8:30 to 11:30 a.m.

ADDRESSES: The meeting will be held at the Hampton Inn, Two Via DeLuna, Pensacola Beach, Florida, 32561, (850)932-6800.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Federal Program and Budget Summary, Review Draft GMP Policy Review Board Recommendations for 2001, FY 2001 Workplan Overview and Implementation Status, Review Annual Report to National Aquatic Nuisance Species Task Force, Coastal America Update, Overview of Memorandum of Understanding developed by USGS/NOAA/EPA , Update on Mexico/United States Governors' Accord.

The meeting is open to the public.

Dated: January 11, 2001.
Gloria D. Car,
Designated Federal Officer.

[FR Doc. 01-1650 Filed 1-19-01; 8:45 am]

BILLING CODE 6560-50-U